DEPARTMENT OF ENERGY

Nuclear Energy Advisory Committee

AGENCY: Office of Nuclear Energy, Department of Energy.

ACTION: Notice of open meeting.

SUMMARY: This notice announces a meeting of the Nuclear Energy Advisory Committee (NEAC). Federal Advisory Committee Act (Pub. L. 94-463, 86 Stat. 770) requires that public notice of these meetings be announced in the Federal Register.

DATE: Thursday, February 16, 2017.

TIME: 4:00 p.m.-5:00 p.m. (EST).

ADDRESSES: The public teleconference will be held by teleconference only. The teleconference number is: (267) 930-4000; participation code: 580-520-181.

FOR FURTHER INFORMATION CONTACT: Bob Rova, Designated Federal Officer, U.S. Department of Energy, 19901 Germantown Rd, Germantown, MD 20874; telephone (301) 903-9096; email robert.rova@nuclear.energy.gov.

SUPPLEMENTARY INFORMATION: Background: The Nuclear Energy Advisory Committee (NEAC), formerly the Nuclear Energy Research Advisory Committee (NERAC), was established in 1998 by the U.S. Department of Energy (DOE) to provide advice on complex scientific, technical, and policy issues that arise in the planning, managing, and implementation of DOE's civilian nuclear energy research programs. The committee is composed of 19 individuals of diverse backgrounds selected for their technical expertise and experience, established records of distinguished professional service, and their knowledge of issues that pertain to nuclear energy.

Purpose of the Meeting: Discussion and approval of the NEAC report “Assessment of Missions and Requirements for a New U.S. Test Reactor”.

Tentative Agenda: Discussion and approval of report.

Public Participation: Individuals and representatives of organizations are invited to listen to the meeting on February, 16, 2017. The draft report is posted on NEAC's Web site: https://energy.gov/ne/services/nuclear-energy-advisory-committee. Comments on the report can be sent to: NEAC@nuclear.energy.gov. Comments are due by Tuesday, January 31, 2017.

Minutes: The minutes of the meeting will be available by contacting Mr. Rova at the address above or on the Department of Energy, Office of Nuclear Energy Web site at http://energy.gov/ne/services/nuclear-energy-advisory-committee.

Issued in Washington, DC, on January 11, 2017.
LaTanya R. Butler,
Deputy Committee Management Officer.

[FR Doc. 2017-00865 Filed 1-13-17; 8:45 am]

BILLING CODE 6450-01-P